DEPARTMENT OF TRANSPORTATION

Federal Highway Administration

Environmental Impact Statement: Mills County, IA; Cass County, NE

AGENCY: Federal Highway Administration (FHWA), DOT.

ACTION: Notice of intent.

SUMMARY: The FHWA is issuing this notice to advise the public that an Environmental Impact Statement will be prepared for proposed roadway and bridge improvement project in Cass County, Nebraska, and Mills County, Iowa.

FOR FURTHER INFORMATION CONTACT: Mr. Edward Kosola, Realty/Environmental Officer, FHWA, Federal Building, Room 220, 100 Centennial Mall North, Lincoln, NE 68508-3851, (402) 437-5765. Mr. Arthur Yonkey, Planning and Project Development Engineer, Nebraska Department of Roads. PO Box 94759, 1500 Highway 2, Lincoln, NE, 68509, (402) 479-4795. Mr. James Rost, Office of Location and Environment, Iowa Department of Transportation, 800 Lincoln Way, Ames, Iowa 50010, Telephone: (515) 239-1798.

SUPPLEMENTARY INFORMATION: The Transportation Appropriations Bill for fiscal year 2002 included funding for a study of a possible replacement bridge over the Missouri River on Highway U.S. 34 at Plattsmouth, Nebraska. The FHWA, in cooperation with the Nebraska Department of Roads (NDOR) and the Iowa Department of Transportation (Iowa DOT), will prepare an Environmental Impact Statement (EIS) for the Rehabilitation/Replacement and Roadway Study project for the U.S. 34 Plattsmouth Bridge.

The existing two-lane U.S. 34 toll bridge over the Missouri River at the east edge of Plattsmouth has been listed in the National Register of Historic Places. The existing bridge is a multi-span through-truss structure approximately 1,400 feet long with a 20-foot wide driving surface. This bridge is both functionally and structurally obsolete. The existing alignment of U.S. 34 is through the Central Business District of Plattsmouth. The roadway portion of the study will include a connection to Highway U.S. 75 at the west edge of Plattsmouth.

Alternatives under consideration include: (1) Taking no action; (2) rehabilitating/replacing the existing two-lane bridge; (3) constructing a new two-lane bridge on new location with a connection to the existing roadway system; and (4) constructing a new two-lane bridge on new location with a new roadway system.

An agency scoping meeting and a public scoping/information meeting are planned. Letters describing the proposed action and soliciting comments will be sent to appropriate federal, state, and local agencies, and to private organizations and citizens who are known to be interested in this proposed project. Public input will be sought throughout the project via a series of public meetings to be held in 2003 and 2004. A Draft EIS will be prepared and a public hearing will be held. Public notice will be given of the time and place of the public meetings and public hearing.

To ensure that the full range of issues related to this proposed action are addressed and all significant issues are identified, comments and suggestions are invited from all interested parties. Comments or questions concerning this proposed action and the EIS should be directed to the Nebraska Department of Roads, Iowa DOT or FHWA at the address provided in the caption FOR FURTHER INFORMATION CONTACT.

(Catalog of Federal Domestic Assistance Program Number 20.205, Highway Planning and Construction. The regulations implementing Executive Order 12372 regarding intergovernmental consultation of Federal programs and activities apply to this program)

Dated: January 16, 2003.
Edward W. Kosola,
Realty/Environmental Officer, Nebraska Division, Federal Highway Administration, Lincoln, Nebraska.

[FR Doc. 03-1433 Filed 1-22-03; 8:45 am]

BILLING CODE 4910-22-M